DEPARTMENT OF TRANSPORTATION

Coast Guard

33 CFR Part 100

[CGD11-02-001]

RIN 2115-AE46

Special Local Regulations; San Diego Crew Classic

AGENCY: Coast Guard, DOT.

ACTION: Notice of implementation.

SUMMARY: This Notice announces the implementation of the regulations located at 33 CFR 100.1101 for the San Diego Crew Classic on April 6-7, 2002. These regulations will be effective on Mission Bay and are necessary to control vessel traffic in the regulated areas during the event to ensure the safety of participants and spectators.

EFFECTIVE DATES: This section is effective from 6:00 a.m. on April 6, 2002 until 6:00 p.m. on April 7, 2002.

FOR FURTHER INFORMATION CONTACT: Petty Officer Austin Murai, U. S. Coast Guard Marine Safety Office San Diego, San Diego, California; Telephone: (619) 683-6495.

SUPPLEMENTARY INFORMATION: Discussion of Notice. These Special Local Regulations permit Coast Guard control of vessel traffic in order to ensure the safety of spectator and participant vessels. In accordance with the regulations in 33 CFR 100.1101, no persons or vessels shall block, anchor, or loiter in the regulated area; nor shall any person or vessel transit through the regulated area, or otherwise impede the transit of participant or official patrol vessels in the regulated area, unless cleared for such entry by or through an official patrol vessel acting on behalf of the Patrol Commander. The regulated area is located on Mission Bay in that portion bounded by Enchanted Cove, Fiesta Island, Pacific Passage, and DeANza Point. Pursuant to 33 CFR 100.1101(b)(3), Commanding Officer, Coast Guard Activities San Diego is designated the Patrol Commander for this event. He has authority to delegate this responsibility to any commissioned, warrant, or petty officer of the Coast Guard.

Good Cause Statement. Good cause exists for publishing this Notice of Implementation less than 30 days before the event because there is an immediate need to protect the crew boat racers from any motorized boats in the vicinity. This need was balanced against the principle that all affected persons should be afforded a reasonable time to prepare for the effective date of the rule. Because general notice of this rule is published in the Code of Federal Regulations and the general notice is being followed by this Notice of Implementation, affected persons will have received adequate notice that this rule would come into effect.

Dated: March 19, 2002.
D.C. Folsom,
Captain, U.S. Coast Guard, Commander, Eleventh Coast Guard District, Acting.

[FR Doc. 02-7712 Filed 3-28-02; 8:45 am]

BILLING CODE 4910-15-U